DEPARTMENT OF HEALTH AND HUMAN SERVICES

Centers for Disease Control and Prevention

[Program Announcement 03082]

Coordination of Activities Between the CDC, National Immunization Program and State and Local Immunization Programs; Notice of Availability of Funds

Application Deadline: June 20, 2003.

A. Authority and Catalog of Federal Domestic Assistance Number

This program is authorized under section 311 of the Public Health Service Act, (42 U.S.C. 243), as amended and section 317 (k)(1) of the Public Health Service Act, (42 U.S.C. 247b(k)(1)), as amended. The Catalog of Federal Domestic Assistance number is 93.185.

B. Purpose

The Centers for Disease Control and Prevention (CDC) announces the availability of fiscal year (FY) 2003 funds for a grant program for the coordination of activities between the National Immunization Program (NIP) and state and local public health immunization programs. This program addresses the “Healthy People 2010” focus areas of Immunization and Infectious Diseases.

The purpose of this program is to develop, establish, enhance, and manage an organizational network among immunization programs which would facilitate, coordinate, integrate, and expand state and local efforts to improve overall national immunization prevention programs. Specifically, the program will (1) maintain an effective communication capacity among the nation's immunization program managers and CDC; (2) establish a platform for integrated problem solving, national policy analysis and decision making among immunization program managers; and (3) establish a capacity to coordinate the consultations and collaborations that will enable state and local immunization programs to assimilate and implement the latest programmatic, scientific and technological developments and concepts affecting the goal of immunizing our nation's citizens.

Measurable outcomes of the program will be in alignment with NIP performance goals that apply to state and local public health immunization programs:

1. Reduce the number of indigenous cases of vaccine-preventable diseases.

2. Ensure that two year-olds are appropriately vaccinated.

In addition, focus should be placed on the “Healthy People 2010” goals to:

1. Increase routine vaccination coverage levels of adolescents.

2. Increase hepatitis B vaccine coverage among high-risk groups.

3. Increase the proportion of adults who are vaccinated annually against influenza and are vaccinated, as recommended, against pneumococcal disease.

C. Eligible Applicants

Applications may be submitted by public or private national nonprofit organizations with a comprehensive state and local area representation of key officials who are actively engaged in directing immunization program efforts.

Assistance will be provided to one applicant that can demonstrate the ability to accomplish the objectives stated above. Applicant should be able to demonstrate ability to provide technical expertise in the areas of program management, vaccine management, information technology, quality assurance, health care delivery, health education and disease surveillance which is required to ensure effective implementation of population-based immunization programs.

Note: Title 2 of the United States Code section 1611 states that an organization described in section 501(c)(4) of the Internal Revenue Code that engages in lobbying activities is not eligible to receive Federal funds constituting an award, grant or loan.

D. Funding

Availability of Funds: Approximately $150,000 is available in FY 2003 to fund one award. It is expected that the award will begin on or about September 15, 2003, and will be made for a 12-month budget period within a project period of up to five years. Funding estimates may change.

Continuation awards within an approved project period will be made on the basis of satisfactory progress as evidenced by required reports and the availability of funds.

Use of Funds:

Funds cannot be used for construction or renovation, to purchase or lease vehicles or to purchase office space.

Recipient Financial Participation: No matching funds are required for this program.

E. Program Requirements

In conducting activities to achieve the purpose of this program, the recipient will be responsible for the following activities:

1. Organize, establish and maintain liaison activities to collaborate with NIP and other affiliate organizations to attain national immunization goals.

2. Provide information on key immunization developments to state and local Immunization Program Managers, other key Immunization Program staff, and other organizations via newsletters, conference calls and other multimedia sources.

3. Develop and maintain a forum for state and local Immunization Program Managers to exchange epidemiologic and other programmatic information, respond to emerging issues, develop policy positions, and advise key officials, including CDC, on the prevention of Vaccine Preventable Diseases.

4. Sponsor and provide leadership for a nationally recognized forum (i.e., an annual meeting) for state and local immunization program managers across the nation in which to exchange and disseminate epidemiologic and other public health information, respond to emerging issues, develop and foster consistent state and local policy positions, and advise key officials, including CDC, on the prevention of Vaccine Preventable Diseases. Organize and convene meetings and workshops on an as needed basis for the purpose of exchanging information and program updates.

5. Identify and assess the immunization-related public health infrastructure needs of state and local Immunization Programs.

6. Assist in developing the agenda and selecting and obtaining speakers for the National Immunization Conference and the Annual Immunization Program Managers Meeting.

7. Promote the adequate and efficient allocation of resources to immunization efforts.

F. Content

Letter of Intent (LOI): A LOI is optional for this program. The Program Announcement title and number must appear in the LOI. The narrative should be no more than two pages, single-spaced, printed on one side, with one-inch margins, and unreduced 12-point font. Your letter of intent will not be evaluated, but will be used to assist CDC in planning for the objective review for this program. The letter of intent should include the following information:

1. The name of the organization.

2. The primary contact person's name, mailing address, phone number, fax number and email address (if available).

3. The mission/activities of the organization.

4. The number of members in the organization.

Application: The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of, at a minimum, Background, a Program Plan, Objectives, Methods of Operation, Program Management, Evaluation Plan and Budget Information.

1. Background

a. Provide background information on the applicant organization that includes evidence of relevant experience in coordinating activities among constituents and a clear statement of the purpose of the project.

b. A copy of the applicant organization's By-Laws and a list of the current office holders and Executive Committee members should be attached.

2. Program Plan

a. Provide a position description for all proposed staff.

b. Indicate the proposed location for the project.

c. Describe the problems to be addressed with the requested assistance and briefly propose a programmatic plan for each.

d. Provide a plan for disseminating reports of project activities indicating the frequency, timing, format and intended recipients of the reports.

3. Objectives

a. Establish long-term (five years) and short-term (one year) objectives for the programmatic plan.

b. Objectives must be specific, realistic, measurable, and time-phased.

4. Methods of Operation

a. Describe the operational plan for achieving each objective established. Concisely describe each component or major activity and how it will be carried out.

b. Include a time-line for completing each component or major activity.

5. Program Management

Describe the professional personnel involved in the management of this project and their qualifications.

6. Evaluation Plan

Describe the plan for monitoring progress toward achievement of each of the objectives.

7. Budget Information

a. Provide a detailed budget with justification. The budget proposal should be consistent with the purpose and program plan.

b. Provide an itemized (line-item) budget categorized by objective.

G. Submission and Deadline

Letter of Intent (LOI) Submission

On or before June 5, 2003, submit the LOI to the Grants Management Specialist identified in the “Where to Obtain Additional Information” section of this announcement.

Application Forms

Submit the signed original and two copies of PHS 5161-1 (OMB Numb 0920-0428). Forms are available in the application kit and at the following Internet address:

www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. Eastern Time June 20, 2003. Submit the application to: Technical Information Management-PA03082, CDC Procurement and Grants Office, 2920 Brandywine Road, Atlanta, GA 30341-4146.

Forms must be submitted in the following order:

Cover Letter

Table of Contents

Application

Budget Information Form

Budget Justification

Checklist

Assurances

Certifications

Disclosure Form

Narrative

Applications may not be submitted electronically.

CDC Acknowledgement of Application Receipt

A postcard will be mailed by PGO-TIM, notifying you that CDC has received your application.

Deadline

Letters of intent and applications shall be considered as meeting the deadline if they are received before 4 p.m. Eastern Time on the deadline date. Any applicant who sends their application by the United States Postal Service or commercial delivery services must ensure that the carrier will be able to guarantee delivery of the application by the closing date and time. If an application is received after closing due to (1) Carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Letter of Intent

The Letter of Intent will not be evaluated, but will be used to assist in planning for the objective review of applications.

Application

Applicants are required to provide measures of effectiveness that will demonstrate the accomplishment of the various identified objectives of the grant. Measures of effectiveness must relate to the performance goals as stated in the purpose section of this announcement. Measures must be objective and quantitative and must measure the intended outcome. These measures of effectiveness shall be submitted with the application and shall be an element of evaluation.

An independent review group appointed by CDC will evaluate each application against the following criteria: (100 points maximum)

1. Experience (15 points)

The extent to which the applicant documents experience in representing program officials who are actively engaged in directing immunization program efforts, in providing a national network of communications and support to state and local immunization programs, and in expanding national level partnerships to support the development of immunization staff and the enhancement of immunization program efforts.

2. Collaboration (15 points)

The extent to which organization includes representatives of immunization programs who are actively engaged in directing immunization program efforts, and who represent state and local immunization program efforts from all parts of the nation.

3. Understanding of the Project (15 points)

Extent to which the applicant understands the requirements, problems, objectives, complexities, and interactions required of this project

4. Objectives (15 points)

Degree to which the proposed objectives are clearly stated, realistic, time phased, and related to the purpose of this project

5. Operational Plan and Timetable (15 points)

The extent to which the applicant's plan to carry out the activities proposed is feasible and consistent with the stated objectives in this proposal. The extent to which the timetable incorporates major activities and milestones that are specific, measurable and realistic. Dates, tasks, and persons responsible for accomplishing tasks should be included.

6. Staff Capacity (15 points)

Extent to which the professional personnel proposed to be involved in administering this project and the professional personnel proposed to provide program leadership have the capacity to perform the work proposed. This would include individual qualifications with evidence of past achievements for staff identified.

7. Evaluation Plan (10 points)

The extent to which the evaluation plan appears feasible for monitoring progress toward meeting the stated project objectives. In addition to evaluating outcome-related project objectives, the plan should clearly describe how the grantee will use performance measures to track internal processes.

8. Budget (not scored)

The budget should be reasonable, clearly justified, and consistent with the intended use of funds.

9. Performance goals (not scored)

The extent to which the application will further the NIP performance goals stated in the purpose section of this announcement.

I. Other Requirements

Technical Reporting Requirements

Provide CDC with original plus two copies of:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC Web site.

AR-10—Smoke-Free Workplace Requirements

AR-11—Healthy People 2010

AR-12—Lobbying Restrictions

AR-15—Proof of Non-Profit Status

Executive Order 12372 does not apply to this program.

J. Where To Obtain Additional Information

This and other CDC announcements, the necessary applications, and associated forms can be found on the CDC home page Internet address: http://www.cdc.gov.

Click on “Funding” then “Grants and Cooperative Agreements.”

For general questions about this announcement, contact: Technical Information Management, CDC Procurement and Grants Office, 2920 Brandywine Road, Atlanta, GA 30341-4146, Telephone: (770) 488-2700.

For business management assistance, contact: Peaches Brown, Grants Management Specialist, Procurement and Grants Office, Centers for Disease Control and Prevention, 2920 Brandywine Road, Atlanta, GA 30341-4146, Telephone number: (770) 488-2738, Email address: prb0@cdc.gov.

For program technical assistance, contact: Kenneth Sharp, Program Operations Branch, ISD, National Immunization Program, Mailstop E-52, 1600 Clifton Rd, Atlanta, GA 30333, Telephone number: (404) 639-8215, E-mail address: ksharp@cdc.gov.

Dated: April 30, 2003.
Edward Schultz,
Acting Director, Procurement and Grants Office, Centers for Disease Control and Prevention.

[FR Doc. 03-11140 Filed 5-6-03; 8:45 am]

BILLING CODE 4163-18-P